DEPARTMENT OF THE INTERIOR

National Park Service

[2253-665]

Notice of Intent To Repatriate a Cultural Item: U.S. Department of the Interior, National Park Service, Little Bighorn Battlefield National Monument, Crow Agency, MT

AGENCY: National Park Service, Interior.

ACTION: Notice.

SUMMARY: Little Bighorn Battlefield National Monument, in consultation with the appropriate Indian tribes, has determined that a cultural item meets the definition of sacred object and repatriation to the lineal descendant stated below may occur if no additional claimants come forward. Any other individuals who believe they are lineal descendants of the individual who owned the sacred object and who wish to claim the item should contact Little Bighorn Battlefield National Monument.

DATES: Any other individuals who believe they are lineal descendants of the individual who owned the sacred object and who wish to claim the item should contact Little Bighorn Battlefield National Monument at the address below by January 23, 2012.

ADDRESSES: Kate Hammond, Superintendent, Little Bighorn Battlefield National Monument, P.O. Box 39, Crow Agency, MT, 59022-0039, telephone (406) 638-3201.

SUPPLEMENTARY INFORMATION: Notice is here given in accordance with the Native American Graves Protection and Repatriation Act (NAGPRA), 25 U.S.C. 3005, of the intent to repatriate a cultural item in the possession of the U.S. Department of the Interior, National Park Service, Little Bighorn Battlefield National Monument, Crow Agency, MT that meets the definition of sacred object under 25 U.S.C. 3001.

This notice is published as part of the National Park Service's administrative responsibilities under NAGPRA, 25 U.S.C. 3003(d)(3). The determinations in this notice are the sole responsibility of the Superintendent, Little Bighorn Battlefield National Monument.

History and Description of the Cultural Item

The cultural item is a wooden framed trade mirror adorned with brass tacks and otter fur strips. Two small medicine bags are attached. The mirror was used in the 1870s by the Cheyenne warrior Long Jaw. In 1957 the mirror was purchased from Albert Long Jaw, grandson of Long Jaw, by the Custer Battlefield Historic Museum Association and later donated to Little Bighorn Battlefield National Monument.

Frank Long Jaw, Sr., son of Albert Long Jaw and great-grandson of Cheyenne warrior Long Jaw, the original owner, is requesting repatriation of the cultural item described above. The mirror is needed by Mr. Long Jaw to continue traditional ceremonies. The Northern Cheyenne Cultural Commission and Tribal Historic Preservation Office corroborated Little Bighorn Battlefield National Monument's determination that Frank Long Jaw, Sr. is the most appropriate recipient under the Northern Cheyenne traditional kinship system and common law system of descendance.

Determinations Made by Little Bighorn Battlefield National Monument

Officials of Little Bighorn Battlefield National Monument have determined that:

• Pursuant to 25 U.S.C. 3001(3)(C), the one cultural item described above is a specific ceremonial object needed by traditional Native American religious leaders for the practice of traditional Native American religions by their present-day adherents.

• Pursuant to 25 U.S.C. 3005(a)(5)(A), Mr. Frank Long Jaw, Sr. is the direct lineal descendant of the individual who owned the sacred object.

Additional Requestors and Disposition

Any other individuals who believe they are lineal descendants of the individual who owned this sacred object and who wish to claim the item should contact Kate Hammond, Superintendent, Little Bighorn Battlefield National Monument, P.O. Box 39, Crow Agency, MT, 59022-0039, telephone (406) 638-3201, before January 23, 2012. Repatriation of the sacred object to Mr. Frank Long Jaw, Sr. may proceed after that date if no additional claimants come forward.

Little Bighorn Battlefield National Monument is responsible for notifying Mr. Frank Long Jaw, Sr.; the Arapaho Tribe of the Wind River Reservation, Wyoming; Assiniboine and Sioux Tribes of the Fort Peck Indian Reservation, Montana; Cheyenne and Arapaho Tribes, Oklahoma (formerly the Cheyenne-Arapaho Tribes of Oklahoma); Cheyenne River Sioux Tribe of the Cheyenne River Reservation, South Dakota; Crow Creek Sioux Tribe of the Crow Creek Reservation, South Dakota; Crow Tribe of Montana; Flandreau Santee Sioux Tribe of South Dakota; Lower Brule Sioux Tribe of the Lower Brule Reservation, South Dakota; Northern Cheyenne Tribe of the Northern Cheyenne Indian Reservation, Montana; Oglala Sioux Tribe of the Pine Ridge Reservation, South Dakota; Rosebud Sioux Tribe of the Rosebud Indian Reservation, South Dakota; Santee Sioux Nation, Nebraska; Sisseton-Wahpeton Oyate of the Lake Traverse Reservation, South Dakota; Spirit Lake Tribe, North Dakota; Standing Rock Sioux Tribe of North & South Dakota; Three Affiliated Tribes of the Fort Berthold Reservation, North Dakota; and the Yankton Sioux Tribe of South Dakota that this notice has been published.

Dated: December 20, 2011.
Sherry Hutt,
Manager, National NAGPRA Program.

[FR Doc. 2011-33010 Filed 12-22-11; 8:45 a.m.]

BILLING CODE 4312-50-P